Proclamation 10900 of March 6, 2025

Women's History Month, 2025

By the President of the United States of America

A Proclamation

Every day, without fame or fanfare, women inspire, support, and strengthen their families, communities, and our country. Women's History Month presents a great opportunity to celebrate the tremendous impact women continue to have on our Nation.

The First Lady and I honor American women from all generations and all backgrounds who have been integral to our prosperity and productivity, and who have made an indelible mark on the soul and heartbeat of our Nation.

I am especially proud to acknowledge and celebrate the brilliant and talented female trailblazers in my Administration. They are leaders in business, experts in foreign and domestic policy, authorities in national security, great legal minds, as well as dedicated public servants who put the American people first. Together, we are working to honor the women in our history.

No longer will our Government promote radical ideologies that replace women with men in spaces and opportunities designed for women, or devastate families by indoctrinating our sons and daughters to begin a war with their own bodies. Instead, my Administration will safeguard the great American values of family, truth, well-being, and freedom.

By fulfilling my promise to protect women and girls from gender extremism we have brought back common sense to society. And, most Americans—nearly 80 percent—are supportive.

On day one, I delivered on my promise to sign an Executive Order recognizing that women are biologically female, and men are biologically male. As a result, the United States will no longer allow “X” gender marker on Government forms, and the United States Passport Office will now only issue passports with a “M” or “F” sex marker matching an individual's biological sex at birth.

I also signed an Executive Order to protect women's sports and directed the Department of Education and other executive departments and agencies to launch Title IX action against federally funded schools and States who refuse to uphold fair competition and dignity for female athletes. Responding to my Administration's clear and concise standards, the National College Athletic Association, representing 530,000 student-athletes, and State athletic associations across the country changed their policies to limit competition in women's sports to female student-athletes only. By recognizing there are only two sexes, restoring Title IX protections, and protecting families, my Administration is empowering women every day.

I am also delivering on my promise to secure our borders, deport illegal criminal aliens, rebuild our economy, school choice, make America healthy again, and improve access to in vitro fertilization—and I have only just started. I will never stop fighting for America's women and families.

Today and every day, America's daughters ignite the dreams and develop the character of our next generation. Their contributions to America's excellence are worthy of praise and recognition, now and forever.

NOW, THEREFORE, I, DONALD J. TRUMP, President of the United States of America, by virtue of the authority vested in me by the Constitution and the laws of the United States, do hereby proclaim March 2025 as Women's History Month. I call on all Americans to celebrate the exceptional women in their lives and around our country.

IN WITNESS WHEREOF, I have hereunto set my hand this sixth day of March, in the year of our Lord two thousand twenty-five, and of the Independence of the United States of America the two hundred and forty-ninth.

[FR Doc. 2025-03947

Filed 3-10-25; 8:45 am]

Billing code 3395-F4-P